DEPARTMENT OF COMMERCE

Foreign-Trade Zones Board

[S-134-2015]

Approval of Subzone Status; Nine West Holdings, Inc.; West Deptford, New Jersey

On October 14, 2015, the Executive Secretary of the Foreign-Trade Zones (FTZ) Board docketed an application submitted by the South Jersey Port Corporation, grantee of FTZ 142, requesting subzone status subject to the existing activation limit of FTZ 142, on behalf of Nine West Holdings, Inc. in West Deptford, New Jersey.

The application was processed in accordance with the FTZ Act and Regulations, including notice in the Federal Register inviting public comment (80 FR 63533, October 20, 2015). The FTZ staff examiner reviewed the application and determined that it meets the criteria for approval.

Pursuant to the authority delegated to the FTZ Board's Executive Secretary (15 CFR Sec. 400.36(f)), the application to establish Subzone 142D is approved, subject to the FTZ Act and the Board's regulations, including Section 400.13, and further subject to FTZ 142's 249-acre activation limit.

Dated: December 23, 2015.
Andrew McGilvray,
Executive Secretary.

[FR Doc. 2015-32782 Filed 12-28-15; 8:45 am]

BILLING CODE 3510-DS-P